DEPARTMENT OF AGRICULTURE

U.S. Codex Office

Codex Alimentarius Commission: Meeting of the Codex Committee on Pesticide Residues

AGENCY: U.S. Codex Office, USDA.

ACTION: Notice of public meeting and request for comments.

SUMMARY: The U.S Codex Office is sponsoring a public meeting on August 13, 2025. The objective of the public meeting is to provide information and receive public comments on agenda items to be discussed at the 56th Session of the Codex Committee on Pesticide Residues (CCPR56) of the Codex Alimentarius Commission (CAC). CCPR56 will be held in Santiago, Chile, from September 8-13, 2025. The U.S. Manager for Codex Alimentarius and the Under Secretary for Trade and Foreign Agricultural Affairs recognize the importance of providing interested parties the opportunity to obtain background information on the 56th Session of the CCPR and to address items on the agenda.

DATES: The public meeting is scheduled for August 13, 2025, from 2:00-4:00 p.m. ET.

ADDRESSES: The public meeting will take place via video teleconference only. Documents related to the 56th Session of the CCPR will be accessible via the internet at the following address: https://www.fao.org/fao-who-codexalimentarius/meetings/detail/en/?meeting=CCPR&session=56.

Mr. Aaron Niman, U.S. Delegate to the 56th Session of the CCPR, invites interested U.S. parties to submit their comments electronically to the following email address: niman.aaron@epa.gov. Comments should state that they relate to the activities of the 56th Session of the CCPR.

Registration: Attendees may register to attend the public meeting at the following link: https://www.zoomgov.com/meeting/register/rPMl5Z8ZQDGl4zBp7bTy5w. After registering, you will receive a confirmation email containing information about joining the meeting.

For further information about the 56th Session of the CCPR, contact U.S Delegate, Mr. Aaron Niman, niman.aaron@epa.gov. For additional information regarding the public meeting, contact the U.S. Codex Office by email at: uscodex@usda.gov.

SUPPLEMENTARY INFORMATION:

Background

The Codex Alimentarius Commission was established in 1963. Through adoption of food standards, codes of practice, and other guidelines developed by its committees, and by promoting their adoption and implementation by governments, Codex seeks to protect the health of consumers and ensure fair practices in the food trade.

The Terms of Reference of the Codex Committee on Pesticide Residues (CCPR) are:

(a) to establish maximum limits for pesticide residues in specific food items or in groups of food;

(b) to establish maximum limits for pesticide residues in certain animal feeding stuffs moving in international trade where this is justified for reasons of protection of human health;

(c) to prepare priority lists of pesticides for evaluation by the Joint Meeting on Pesticide Residues (JMPR);

(d) to consider methods of sampling and analysis for the determination of pesticide residues in food and feed;

(e) to consider other matters in relation to the safety of food and feed containing pesticide residues; and,

(f) to establish maximum limits for environmental and industrial contaminants showing chemical or other similarity to pesticides, in specific food items or groups of food.

China hosts the CCPR. The 56th Session of the CCPR will be co-hosted with Chile. The United States attends the CCPR as a member country of Codex.

Issues To Be Discussed at the Public Meeting

The following items from the agenda for the 56th Session of the CCPR will be discussed during the public meeting:

• Adoption of the Agenda

• Appointment of Rapporteurs

• Matters referred to CCPR by CAC and/or other subsidiary bodies

• Matters of interest arising from other international organizations

• Report on items of general consideration arising from the 2024 JMPR regular meeting

• Report on responses to specific concerns raised by CCPR arising from the 2024 JMPR regular meeting

• Maximum Residue Limits (MRLs) for pesticides in food and feed

• Codex MRLs (CXLs) for milk and milk fat

• MRLs for okra

• Guidelines for monitoring the stability and purity of reference materials and related stock solutions of pesticides during prolonged storage

• Management of unsupported compounds without public health concern scheduled for periodic review

• National registrations of pesticides

• Establishment of Codex Schedules and Priority Lists of Pesticides for Evaluation/Re-Evaluation by JMPR

• Enhancement of the Operational Procedures of CCPR and JMPR

• Coordination of work between CCPR and CCRVDF: Joint CCPR/CCRVDF Working Group on Compounds for Dual Use—Status of work

• Other Business

Public Meeting

At the August 13, 2025, public meeting, agenda items will be described and attendees will have the opportunity to pose questions and offer comments. Written comments may be offered at the meeting or sent to U.S Delegate, Mr. Aaron Niman, niman.aaron@epa.gov. Written comments should state that they relate to activities of the 56th Session of the CCPR.

Additional Public Notification

Public awareness of all segments of rulemaking and policy development is important. Consequently, the U.S. Codex Office will announce this Federal Register publication on-line through the USDA Codex web page located at: https://www.usda.gov/codex.

Done at Washington, DC, on July 8, 2025.
Julie A. Chao,
Deputy U.S. Manager for Codex Alimentarius.

[FR Doc. 2025-12936 Filed 7-10-25; 8:45 am]

BILLING CODE 3420-3F-P